DEPARTMENT OF LABOR

Occupational Safety and Health Administration

[Docket No. OSHA-2007-0043]

TUV America, Inc.; Application for Expansion of Recognition

AGENCY: Occupational Safety and Health Administration (OSHA), Labor.

ACTION: Notice.

SUMMARY: This notice announces the application of TUV America, Inc., (TUVAM) for expansion of its recognition and presents the Agency's preliminary finding to grant this request. This preliminary finding does not constitute an interim or temporary approval of this application.

DATES: You must submit information or comments, or any request for extension of the time to comment, by the following dates:

• Hard copy: postmarked or sent by February 22, 2008.

• Electronic transmission or facsimile: sent by February 22, 2008.

ADDRESSES: You may submit comments by any of the following methods:

Electronically: You may submit comments and attachments electronically at http://www.regulations.gov, which is the Federal eRulemaking Portal. Follow the instructions online for making electronic submissions.

Fax: If your submissions, including attachments, are not longer than 10 pages, you may fax them to the OSHA Docket Office at (202) 693-1648.

Mail, hand delivery, express mail, messenger, or courier service: You must submit three copies of your comments and attachments to the OSHA Docket Office, Docket No. OSHA-2007-0043 (formerly, NRTL2-2001), U.S. Department of Labor, Room N-2625, 200 Constitution Avenue, NW., Washington, DC 20210. Deliveries (hand, express mail, messenger and courier service) are accepted during the Department of Labor's and Docket Office's normal business hours, 8:15 a.m.-4:45 p.m., e.t.

Instructions: All submissions must include the Agency name and the OSHA docket number for this notice (OSHA Docket No. OSHA-2007-0043). Submissions, including any personal information you provide, are placed in the public docket without change and may be made available online at http://www.regulations.gov.

Docket: To read or download submissions or other material in the docket, go to http://www.regulations.gov or the OSHA Docket Office at the address above. All documents in the docket are listed in the http://www.regulations.gov index, however, some information (e.g., copyrighted material) is not publicly available to read or download through the Web site. All submissions, including copyrighted material, are available for inspection and copying at the OSHA Docket Office.

Extension of Comment Period: Submit requests for extensions concerning this notice to the Office of Technical Programs and Coordination Activities, NRTL Program, Occupational Safety and Health Administration, U.S. Department of Labor, 200 Constitution Avenue, NW., Room N-3655, Washington, DC 20210. Or fax to (202) 693-1644.

FOR FURTHER INFORMATION CONTACT: MaryAnn Garrahan, Director, Office of Technical Programs and Coordination Activities, NRTL Program, Occupational Safety and Health Administration, U.S. Department of Labor, 200 Constitution Avenue, NW., Room N3655, Washington, DC 20210, or phone (202) 693-2110. Our Web page includes information about the NRTL Program (see http://www.osha.gov and select “N” in the site index).

SUPPLEMENTARY INFORMATION:

Notice of Application

The Occupational Safety and Health Administration (OSHA) hereby gives notice that TUV America, Inc., (TUVAM) has applied for expansion of its current recognition as a Nationally Recognized Testing Laboratory (NRTL). TUVAM's expansion request covers the use of additional test standards. OSHA's current scope of recognition for TUVAM may be found in the following informational Web page: http://www.osha.gov/dts/otpca/nrtl/tuvam.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL that details its scope of recognition. These pages can be accessed from our Web site at http://www.osha.gov/dts/otpca/nrtl/index.html.

The most recent application processed by OSHA specifically related to TUVAM's recognition granted an expansion, and the final notice for this expansion was published on August 30, 2005 (70 FR 51373).

The current addresses of the TUVAM facilities already recognized by OSHA are: TUV Product Services (TUVAM), 5 Cherry Hill Drive, Danvers, MA 01923; TUV Product Services (TUVAM), 10040 Mesa Rim Road, San Diego, CA 92121; and TUV Product Services (TUVAM), 1775 Old Highway 8, NW., Suite 104, New Brighton (Minneapolis), MN 55112.

General Background on the Application

TUVAM submitted an application, dated October 6, 2005 (see Exhibit 11-1), to expand its recognition to include 142 additional test standards. It amended its application on February 17, 2006, to add two more test standards, and then in June 2006 and July 2007 further amended its application to reduce its request to 89 test standards (see Exhibits 11-2 through 11-4), one of which, however, has been withdrawn by the standards developing organization. Thus, TUVAM's request includes 88 standards. The NRTL Program staff has determined that each of the remaining standards is an “appropriate test standard” within the meaning of 29 CFR 1910.7(c). In connection with this request, NRTL Program assessment staff performed an on-site review of TUVAM's Massachusetts testing facility and recommended that TUVAM's recognition be expanded to include the additional test standards listed below (see Exhibit 11-5). As a result, the Agency would approve the 88 test standards for the expansion.

TUVAM seeks recognition for testing and certification of products for demonstration of conformance to the following test standards:

UL 48 | Electric Signs.
UL 69 | Electric-Fence Controllers.
UL 82 | Electric Gardening Appliances.
UL 201 | Garage Equipment.
UL 325 | Door, Drapery, Gate, Louver, and Window Operators and Systems.
UL 399 | Drinking-Water Coolers.
UL 474 | Dehumidifiers.
UL 482 | Portable Sun/Heat Lamps.
UL 497A | Secondary Protectors for Communication Circuits.
UL 506 | Specialty Transformers.
UL 561 | Floor-Finishing Machines.
UL 563 | Ice Makers.
UL 588 | Seasonal and Holiday Decorative Products.
UL 676 | Underwater Luminaires and Submersible Junction Boxes.
UL 696 | Electric Toys.
UL 697 | Toy Transformers.
UL 745-1 | Portable Electric Tools.
UL 745-2-1 | Particular Requirements for Drills.
UL 745-2-2 | Particular Requirements for Screwdrivers and Impact Wrenches.
UL 745-2-3 | Particular Requirements for Grinders, Polishers, and Disk-Type Sanders.
UL 745-2-4 | Particular Requirements for Sanders.
UL 745-2-5 | Particular Requirements for Circular Saws and Circular Knives.
UL 745-2-6 | Particular Requirements for Hammers.
UL 745-2-8 | Particular Requirements for Shears and Nibblers.
UL 745-2-9 | Particular Requirements for Tappers.
UL 745-2-11 | Particular Requirements for Reciprocating Saws.
UL 745-2-12 | Particular Requirements for Concrete Vibrators.
UL 745-2-14 | Particular Requirements for Planers.
UL 745-2-17 | Particular Requirements for Routers and Trimmers.
UL 745-2-30 | Particular Requirements for Staplers.
UL 745-2-31 | Particular Requirements for Diamond Core Drills.
UL 745-2-32 | Particular Requirements for Magnetic Drill Presses.
UL 745-2-33 | Particular Requirements for Portable Bandsaws.
UL 745-2-34 | Particular Requirements for Strapping Tools.
UL 745-2-35 | Particular Requirements for Drain Cleaners.
UL 745-2-36 | Particular Requirements for Hand Motor Tools.
UL 745-2-37 | Particular Requirements for Plate Jointers.
UL 749 | Household Dishwashers.
UL 775 | Graphic Arts Equipment.
UL 778 | Motor-Operated Water Pumps.
UL 826 | Household Electric Clocks.
UL 858 | Household Electric Ranges.
UL 859 | Household Electric Personal Grooming Appliances.
UL 867 | Electrostatic Air Cleaners.
UL 875 | Electric Dry-Bath Heaters.
UL 921 | Commercial Dishwashers.
UL 935 | Fluorescent-Lamp Ballasts.
UL 969 | Marking and Labeling Systems.
UL 977 | Fused Power-Circuit Devices.
UL 979 | Water Treatment Appliances.
UL 984 | Hermetic Refrigerant Motor-Compressors.
UL 987 | Stationary and Fixed Electric Tools.
UL 1018 | Electric Aquarium Equipment.
UL 1028 | Hair Clipping and Shaving Appliances.
UL 1030 | Sheathed Heating Elements.
UL 1086 | Household Trash Compactors.
UL 1088 | Temporary Lighting Strings.
UL 1097 | Double Insulation Systems for Use in Electrical Equipment.
UL 1206 | Electric Commercial Clothes-Washing Equipment.
UL 1230 | Amateur Movie Lights.
UL 1240 | Electric Commercial Clothes-Drying Equipment.
UL 1411 | Transformers and Motor Transformers for Use In Audio-, Radio-, and Television-Type Appliances.
UL 1419 | Professional Video and Audio Equipment.
UL 1431 | Personal Hygiene and Health Care Appliances.
UL 1449 | Surge Protective Devices.
UL 1484 | Residential Gas Detectors.
UL 1559 | Insect-Control Equipment—Electrocution Type.
UL 1561 | Dry-Type General Purpose and Power Transformers.
UL 1563 | Electric Spas, Equipment Assemblies, and Associated Equipment.
UL 1573 | Stage and Studio Luminaires and Connector Strips.
UL 1574 | Track Lighting Systems.
UL 1594 | Sewing and Cutting Machines.
UL 1598 | Luminaires.
UL 1741 | Inverters, Converters, and Controllers and Interconnection System Equipment for Use With Distributed Energy Resources.
UL 1778 | Uninterruptible Power Supply Equipment.
UL 1786 | Direct Plug-In Nightlights.
UL 1838 | Low Voltage Landscape Lighting Systems.
UL 1963 | Refrigerant Recovery/Recycling Equipment.
UL 1993 | Self-Ballasted Lamps and Lamp Adapters.
UL 2044 | Commercial Closed-Circuit Television Equipment.
UL 2111 | Overheating Protection for Motors.
UL 2157 | Electric Clothes Washing Machines and Extractors.
UL 2158 | Electric Clothes Dryers.
UL 60335-2-3 | Household and Similar Electrical Appliances, Part 2: Particular Requirements for Electric Irons.
UL 60745-1 | Hand-Held Motor-Operated Electric Tools—Safety—Part 1: General Requirements.
UL 61010A-2-020 | Electrical Equipment for Laboratory Use; Part 2: Particular Requirements for Laboratory Centrifuges.
UL 61010A-2-061 | Electrical Equipment for Laboratory Use; Part 2: Particular Requirements for Laboratory Atomic Spectrometers with Thermal Atomization and Ionization.
UL 61010B-2-031 | Electrical Equipment for Measurement, Control, and Laboratory Use; Part 2: Particular Requirements for Hand-Held Probe Assemblies for Electrical Measurement and Test.

The designations and titles of the above test standards were current at the time of the preparation of this notice.

OSHA's recognition of TUVAM, or any NRTL, for a particular test standard is limited to equipment or materials (i.e., products) for which OSHA standards require third-party testing and certification before use in the workplace. Consequently, if a test standard also covers any product(s) for which OSHA does not require such testing and certification, an NRTL's scope of recognition does not include that product(s).

A test standard listed above may also be approved as an American National Standard by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Preliminary Finding on the Application

TUVAM has submitted an acceptable request for expansion of its recognition as an NRTL. Our review of the application file, the assessor's recommendation, and other pertinent documents indicate that TUVAM can meet the requirements, as prescribed by 29 CFR 1910.7, for the expansion for the additional test standards listed above. This preliminary finding does not constitute an interim or temporary approval of the application.

OSHA welcomes public comments, in sufficient detail, as to whether TUVAM has met the requirements of 29 CFR 1910.7 for expansion of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. You may obtain or review copies of TUVAM's requests, the assessor's recommendation, and all submitted comments, as received, by contacting the Docket Office, Room N-2625, Occupational Safety and Health Administration, U.S. Department of Labor, at the above address. Docket No. OSHA-2007-0043 (formerly, NRTL2-2001) contains all materials in the record concerning TUVAM's application.

The NRTL Program staff will review all timely comments and, after resolution of issues raised by these comments, will recommend whether to grant TUVAM's expansion request. The Assistant Secretary will make the final decision on granting the expansion and, in making this decision, may undertake other proceedings that are prescribed in Appendix A to 29 CFR Section 1910.7. OSHA will publish a public notice of this final decision in the Federal Register.

Signed at Washington, DC, this 1st day of February, 2008.
Edwin G. Foulke, Jr.,
Assistant Secretary for Occupational Safety and Health.

[FR Doc. E8-2200 Filed 2-6-08; 8:45 am]

BILLING CODE 4510-26-P